DEPARTMENT OF ENERGY

Enzymatic Hydrolysis Demonstration Plant To Convert Biomass to Transportation Fuels and/or Chemicals

AGENCY: Golden Field Office, Department of Energy.

ACTION: Notice of request for expressions of interest.

SUMMARY: The Department of Energy (DOE), Golden Field Office (GO), on behalf of the Office of Fuels Development (OFD), intends to issue solicitations in support of the DOE Biofuels Program in the FY 2003—FY 2005 timeframe. The DOE/GO anticipates issuing the initial solicitation in early FY 2003 for the research and development of a demonstration plant conceptual design, process research, and detailed design of an enzymatic hydrolysis demonstration plant to convert lignocellulosic biomass to transportation fuels (biofuels) and/or chemicals. The purpose of the demonstration plant is to provide engineering data to reduce risk, enable process guarantees, and assure commercial development of the technology. For the initial FY 2003 solicitation, DOE anticipates awarding cost-shared cooperative agreements to one or two industry-led teams. Subject to the availability of funds, DOE intends to issue a subsequent solicitation in FY 2004 for the construction and initial operation of the demonstration plant. Expressions of interest in these solicitations is requested at this time.

DATES: Please provide expressions of interest and comments by May 1, 2002, to the DOE Golden Field Office.

ADDRESSES: Submit the expressions of interest to the U.S. Department of Energy, Golden Field Office, Andrew R. Trenka, 1617 Cole Boulevard, Golden, CO 80401-3393.

FOR FURTHER INFORMATION CONTACT: Andrew R. Trenka, DOE Golden Field Office, 1617 Cole Boulevard, Golden, CO 80401-3393, via facsimile at (303) 275-4753, or electronically at andy_trenka@nrel.gov.

SUPPLEMENTARY INFORMATION: DOE is sponsoring the demonstration of an enzyme sugar platform. This demonstration project is a concentrated effort to use a conversion process based on the low-cost enzymes being developed under major DOE cost-shared projects by Genencor International and Novozymes Biotech Inc., to convert a large volume of biomass into cost-effective alternative transportation fuels and/or chemicals. The initial commercialization of the platform technologies may use biomass wastes and residues. The demonstration plant will provide engineering data to reduce risk, enable process guarantees and assure commercial development of the technology. Each firm, partnership, or consortia may, at its option, utilize, via a Cooperative Research and Development Agreement (CRADA), the DOE laboratories active in the DOE Biofuels research program, i.e. National Renewable Energy Laboratory (NREL), Oak Ridge National Laboratory (ORNL), etc. These laboratories could contribute specialized capabilities, facilities, or equipment to the project that would complement the partnership's capabilities. The winning team or teams will be expected to carry out multi-year technology development and demonstration efforts, including the construction and operation of the platform demonstration plant at a scale sufficient to prove the technical and economic feasibility of feedstock handling, biomass fractionation, enzymatic cellulose hydrolysis, and product fermentation(s) to products. Initial discussions suggest this scale may need to be 40-50 tons per day of input biomass feedstock (dry basis), with corn stover identified as the most plentiful agricultural residue feedstock. The scale of the plant, the feedstock, and the slate of end products will be open to the results of the initial conceptual design and technology research. However, the final products must be based on sugar fermentation and whatever feedstock is chosen should have the potential to lead to significant reductions of imported petroleum, e.g., several billion gallons per year.

DOE expects the industrial partners' cost-share contribution to the initial solicitation to be at least 50% of the initial costs; however, if lower, the rational should be fully explained. Higher cost-shares will be encouraged. DOE intends to share the cost of the FY 2004 and FY 2005 demonstration plant construction efforts, with the industrial partners' contribution being at least 50% of the construction and operating costs (statutory requirement). DOE intends that its partners will have demonstrated experience in the design, construction, and operation of transportation fuels, chemicals, and/or biomass processing facilities, in addition to demonstrated access to financial markets to facilitate eventual commercialization of these technologies. Interested parties should include the following in their expressions of interest:

(1) Experience;

(2) Types of partner organizations (private, public, non-profit) with which they contemplate teaming (including anticipated DOE laboratory involvement);

(3) Any plans to co-locate the demonstration plant with an existing facility;

(4) The types of financial resources they would use to fund their cost-share of the design, process research, construction, and operation phases of the project;

(5) How they will integrate the ongoing research being undertaken by Genencor International and/or Novozymes Biotech, Inc., to produce low-cost cellulases;

(6) The approach to be followed for the planned solicitations;

(7) The approximate budget required to design, construct, and initially operate the demonstration plant;

(8) The approximate size and cost of the demonstration plant to prove the commercial viability of the conversion processes; and

(9) Any additional information or comments to assist in drafting the solicitation.

DOE held a preview technology review in Golden, Colorado, on January 30-31, 2002, and is scheduling a second pre-solicitation meeting in Golden, Colorado in May 2002 (specific date to be determined), for all interested parties to discuss the planned solicitation(s), DOE contracting procedures, intellectual property, the use of government-owned facilities, cost-sharing principles, and other issues.

Information about the platform project, DOE's cost-shared enzyme cost reduction activities, current NREL enzymatic hydrolysis research efforts and technology assessment, the DOE Biofuels program, and the pre-solicitation meeting can be found at the following URL: http://www.ott.doe.gov/biofuels/enzyme_sugar_platform.html.

Issued in Golden, Colorado, on February 14, 2002.
Matthew A. Barron,
Contracting Officer, Office of Acquisition and Financial Assistance.

[FR Doc. 02-7075 Filed 3-22-02; 8:45 am]

BILLING CODE 6450-01-P